DEPARTMENT OF TRANSPORTATION

Office of the Secretary

Aviation Proceedings, Agreements Filed the Week Ending December 2, 2005

The following Agreements were filed with the Department of Transportation under sections 412 and 414 of the Federal Aviation Act, as amended (49 U.S.C. 1382 and 1384) and procedures governing proceedings to enforce these provisions. Answers may be filed within 21 days after the filing of the application.

Docket Number: OST-2005-23186.

Date Filed: November 29, 2005.

Parties: Members of the International Air Transport Association.

Subject:

TC23/TC123 Africa-South Asian Subcontinent, Geneva & Teleconference, September 12-14, 2005,

Intended effective date: April 1, 2006 (Memo 0279). TC23/TC123 Africa-Japan, Korea, Geneva & Teleconference, September 12-14, 2005,

Intended effective date: April 1, 2006 (Memo 0280). TC23/TC123 Africa-South East Asia, Geneva & Teleconference, September 12-14, 2005,

Intended effective date: April 1, 2006 (Memo 0281). Minutes: TC23 Africa, Middle East-TC3, Geneva & Teleconference, September 12-14, 2005 (Memo 0287). Tables: TC23/TC123 Africa-South Asian Subcontinent, Specified Fare Tables, Geneva & Teleconference, September 12-14, 2005,

Intended effective date: April 1, 2006 (Memo 0127). TC23/TC123 Africa-Japan, Korea, Geneva & Teleconference, September 12-14, 2005,

Intended effective date: April 1, 2006 (Memo 0128). TC23/TC123 Africa-South East Asia, Geneva & Teleconference, September 12-14, 2005,

Intended effective date: April 1, 2006 (Memo 0129). Technical Correction: TC23/TC123 Africa-Japan, Korea, Geneva & Teleconference, September 12-14, 2005,

Intended effective date: April 1, 2006 (Memo 0286).

Docket Number: OST-2005-23204.

Date Filed: December 1, 2005.

Parties: Members of the International Air Transport Association.

Subject:

TC23/TC123 Africa TC3, Geneva & Teleconference, September 12-14, 2005,

Intended effective date: April 1, 2006. Minutes: TC23 Africa, Middle East-TC3, Geneva & Teleconference, September 12-14, 2005. (Memo 0287).

Docket Number: OST-2005-23205.

Date Filed: December 1, 2005.

Parties: Members of the International Air Transport Association.

Subject:

TC23/TC123 Middle East TC3, Geneva & Teleconference, September 12-14, 2005,

Intended effective date: April 1, 2006 (Memo 0247). Minutes: TC23 Africa, Middle East-TC3, Geneva & Teleconference, September 12-14, 2005, (Memo 0266).

Docket Number: OST-2005-23206.

Date Filed: December 1, 2005.

Parties: Members of the International Air Transport Association.

Subject:

TC23/TC123 Mail Vote 459 between Middle East and South East Asia, Geneva, September 12-14, 2005,

Intended effective date: April 1, 2006 (Memo 0253). Technical Correction: TC23/TC123 Mail Vote 459, between Middle East and South East Asia, Geneva, September 12-14, 2005,

Intended effective date: April 1, 2006 (Memo 0257).

Docket Number: OST-2005-23207.

Date Filed: December 1, 2005.

Parties: Members of the International Air Transport Association.

Subject:

TC23/TC123 Mail Vote 460 between Africa and South West Pacific except between South Africa and Australia, Geneva, September 15-16, 2005,

Intended effective date: April 1, 2006.

Docket Number: OST-2005-23208.

Date Filed: December 1, 2005.

Parties: Members of the International Air Transport Association.

Subject:

TC31 Passenger Tariff Coordinating Conference, Bangkok, September 21 through November 1, 2005, TC3 (except Japan)—North America, Caribbean (except Korea (Rep. of), Malaysia—USA), Expedited Resolution 002bj, Intended effective date: January 15, 2006.

Docket Number: OST-2005-23217.

Date Filed: December 1, 2005.

Parties: Members of the International Air Transport Association.

Subject:

TC23 Mail Vote 463 between Europe and South Asian Subcontinent, Geneva & Teleconference, September 15-16, 2005, Intended effective date: April 1, 2006 (Memo 0142). Tables: TC23 Europe SASC Geneva and Teleconference, September 15-16, 2005 (Memo 0067), Specified Fare Tables, Technical Correction: TC23 Europe SASC, Geneva and Teleconference, September 15-16, 2005 (Memo 0068).

Docket Number: OST-2005-23218.

Date Filed: December 1, 2005.

Parties: Members of the International Air Transport Association.

Subject:

TC23/TC123 Mail Vote 461 between South Africa and Australia, Geneva, September 15-16, 2005 (Memo 0283),

Intended effective date: April 1, 2006.

Docket Number: OST-2005-23228.

Date Filed: December 2, 2005.

Parties: Members of the International Air Transport Association.

Subject:

TC2 Within Europe, Geneva, October 10-13, 2005 (Memo 0617), Minutes: TC2 Within Europe, Geneva, October 10-13 (Memo 0619), Tables: TC2 Within Europe/Specified Fare Tables, Geneva, October 10-13 (Memo 0124), Technical Correction: TC2 Within Europe, Geneva, October 10-13 (Memo 0618),

Intended effective date: March 1, 2006.

Docket Number: OST-2005-23229.

Date Filed: December 2, 2005.

Parties: Members of the International Air Transport Association.

Subject:

TC31 Passenger Tariff Coordinating Conference, Bangkok, September 21 through November 1, 2005, TC3 Central, South America Expedited Resolution, 002bs (Memo 0340),

Intended effective date: January 15, 2006.

Docket Number: OST-2005-23230.

Date Filed: December 2, 2005.

Parties: Members of the International Air Transport Association.

Subject:

TC31 North and Central Pacific, Bangkok, October 24 through November 1, 2005, TC3 (except Japan)—North America, Caribbean (except between Korea (Rep. of), Malaysia—USA), Expedited Resolution 002bk (Memo 0342),

Intended effective date: March 30, 2006.

Docket Number: OST-2005-23231.

Date Filed: December 2, 2005.

Parties: Members of the International Air Transport Association.

Subject:

PAC2 dated November 4, 2005, Mail Vote Number A 126, Extension of Resolution 814hh to Cyprus,

Intended effective date: February 1, 2006.

Docket Number: OST-2005-23232.

Date Filed: December 2, 2005.

Parties: Members of the International Air Transport Association.

Subject:

TC31 North and Central Pacific, Bangkok, October 24 through November 1, 2005, Korea (Rep. of), Malaysia—USA Expedited Resolution, 002nn (Memo 0343),

Intended effective date: March 30, 2006.

Docket Number: OST-2005-23233.

Date Filed: December 2, 2005.

Parties: Members of the International Air Transport Association.

Subject:

PTC COMP Mail Vote 470, Resolution 011 Section D and 011b, Mileages and Routes for Tariff Purposes and Global Indicator,

Intended effective date: January 15, 2006.

Docket Number: OST-2005-23234.

Date Filed: December 2, 2005.

Parties: Members of the International Air Transport Association.

Subject:

TC23/TC123 Middle East-South Asian Subcontinent, Geneva & Teleconference, September 12-14, 2005,

Intended effective date: April 1, 2006 (Memo 0248).

TC23 Middle East-South West Pacific, Geneva & Teleconference, September 12-14 2005,

Intended effective date: April 1, 2006 (Memo 0249).

TC23/TC123 Middle East-Japan, Korea, Geneva & Teleconference, 12-14 September 2005,

Intended Effective Date: April 1, 2006 (Memo 0250).

Fares: PTC23/TC123 Middle East-Asia, Specified Fares Tables (Memo 0116),

Minutes: TC23/TC123 Middle East-Japan, Korea, Geneva & Teleconference, 12-14 September 2005,

Intended effective date: April 1, 2006 (Memo 0266).

Docket Number: OST-2005-23235.

Date Filed: December 2, 2005.

Parties: Members of the International Air Transport Association.

Subject:

TC23/123 Passenger Tariff Coordinating Conferences, Geneva and Teleconference, September 26-28, 2005, TC23/123 Europe-South East Asia (Memo 0215),

Intended Effective Date: April 1, 2006.

Technical: Correction TC23/TC123 Passenger Tariff Coordinating Conference, Geneva and Teleconference, September 26-28, 2005, TC23/123 Europe-South East Asia Resolutions, (Memo 222),

Minutes: TC23/123 Europe-South East Asia Minutes (0223),

Tables: TC23/123 Europe-South East Asia specified Fares Tables (Memo 0068).

Renee V. Wright,
Program Manager, Docket Operations, Federal Register Liaison.

[FR Doc. E5-7597 Filed 12-20-05; 8:45 am]

BILLING CODE 4910-62-P